DEPARTMENT OF STATE

[Public Notice 4898]

Secretary of State's Advisory Committee on Private International Law: Notice of Renewal of Charter

The Charter of the Secretary of State's Advisory Committee on Private International Law was renewed on January 11, 2005 and expires on January 10, 2007.

The Advisory Committee assists the State Department to monitor domestic and international developments in private international law, provides a means for state, local and private sector viewpoints to be made available to the Department, and provides information to assist in the development of positions for international efforts to harmonize or negotiate uniform rules of private law through model national laws, legal guidelines, treaties, and other means.

The Advisory Committee has focused on work undertaken or proposed for various international bodies, including but not limited to the Hague Conference on Private International Law; the United Nations Commission on International Trade Law (UNCITRAL), the International Institute for the Unification of Private Law UNIDROIT), and the Organization of American States (OAS).

Topics reviewed by the Committee include, but are not limited to, jurisdiction and enforcement of foreign judgments; party choice of forum, enforcement of foreign arbitral awards; cross-border business insolvency law; the protection of minors; inter-country adoption; child abduction; electronic commerce; secured finance; carriage of goods by sea and by other modes of transportation; international franchising; and other topics of current interest in private law as they arise.

Meetings are open to the public, and participation by the public is relied on for the Committee's work. Interested persons, organizations, academic centers and others can participate pro bono in all aspects of the Committee's work. All interested parties can seek additional information from the Office of the Assistant Legal Adviser for Private International Law (L/PIL), Department of State, by contacting Jeffrey Kovar, Mary Helen Carlson or Hal Burman at 202-776-8420, fax 776-8482, or by e-mail to Cherise Reid at reidcherised@State.gov.

Harold S. Burman,
Executive Director, Secretary of State's Advisory Committee on Private International Law, Department of State.

[FR Doc. 05-8987 Filed 5-4-05; 8:45 am]

BILLING CODE 4710-08-P